DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for monetary performance awards. Composition of the specific PRBs will be determined on an ad hoc basis from among individuals listed below:

ACKLEY, V. H. MR.

ADAMS, P. C. MS.

AKIN, M. G. MR.

ANTANITUS, D. RADM

ANTOINE, C. S. MR.

ARNY, L. W. MR.

AVILES, D. M. HON.

BAILEY, W. C. MR.

BALDERSON, W. M. MR.

BARBER, A. H. MR.

BARNUM, H. C. MR.

BAUMAN, D. M. MR.

BEDARD, E. R. LTGEN

BELAND, R. W. DR.

BETRO, T. A. MR.

BEVINS, S. E. MR.

BLAIR, A. K. MS.

BONIN, R. L. MR.

BONWICH, S. M. MR.

BOZIN, S. D. RADML

BRANT, D. L. MR.

BREEDLOVE, W. J. DR.

BROWN, P. F. MR.

BURNS, J. RADM

BUSH, C. T. RADML

BUTLER, J. D. RADML

CALI, R. T. MR.

CARPENTER, A. MS.

CATRAMBONE, G. P. MR.

CATTO, W. D. BGEN

CHURCH III, A. T. VADM

CIESLAK, R. C. MR.

CLARK, C. A. MS.

COBB JR. W. W. RADM

COCHRANE JR, E. R. MR.

COHEN, J. M. RADM

COHN, H. MR.

COLEMAN, R. S. BGEN

COMBS, D. S. MR.

COMMONS, G. J. MS.

COOK, C. E. MR.

CRABTREE, T. R. MR.

CROWLEY III, R. E. RADM

CUDDY, J. V. MR.

CURTIS, D. I. MR.

DECKER, J. MS.

DECKER, M. H. MR.

DEWITTE, C. K. MS.

DONAHUE, P. E. MR.

DUDLEY, W. S. DR.

DURAND, S. R. MS.

DWYER, D. M. RADM

DYER, J. W. VADM

EASTER, S. B. MS.

EDMOND, D. J. MS.

EHRLER, S. M. MR.

ELLIS, W. G. MR.

ENGELHARDT, B. B. RADML

ENNIS, M. BGEN

EVANS, G. L. MS.

EXLEY, R. L. MR.

FILIPPI, D. M. MS.

FLYNN, B. P. MS.

FRANKLIN, R. E. MR.

GODWIN III, J. B. RADM

GREER, E. R. MR.

GRIFFIN JR, R. M. MR.

HAAS, R. L. MR.

HAGEDORN, G. D. MR.

HANDEL, T. H. MR.

HANNAH, B. W. DR.

HAYNES, R. S. MR.

HILDEBRANDT, A. H. MR.

HOBART, R. L. MR.

HOGUE, R. D. MR.

HONECKER, M. W. MR.

HOWARD, J. S. MR.

HUBBELL, P. C. MR.

JAGGARD, M. F. MR.

JAMES, J. H. MR.

JOHNSON, H. T. HON

JOHNSTON JR, C. H. RADM

JOHNSTON, K. J. DR.

JUNKER, B. R. DR.

KASKIN, J. D. MR.

KEENEY, C. A. MS.

KELLY, R. L. LTGEN

KLEIN, J. A. MR.

KLEINTOP, M. U. MS.

KLEMM, W. R. RADM

KRANZ, T. F. MR.

KRASIK, S. A. MS.

KRUM, R. A. MR.

LACEY, M. E. MRS.

LA RAIA, J. H. MR.

LAUX, T. E. MR.

LEACH, R. A. MR.

LEBOEUF, G. G. MR.

LEDVINA, T. N. MR.

LEGGIERI, S. R. MS.

LENGERICH, A. W. RADM

LEWIS, R. D. MS.

LIBERATORE, C. MS.

LOFTUS, J. V. MS.

LOTT, B. M. MAJGEN

LOWELL, P. M. MR.

MAGLICH, M. F. MR.

MAGNUS, R. LTRGEN

MASCIARELLI, J. R. MR.

MATTHEIS, W. G. MR.

MCDONNELL, T. E. MR.

MCGRATH, M. F. MR.

MCLAUGHLIN, P. M. MR.

MCNAIR, J. W. MR.

MEADOWS, L. J. MS.

MEEKS JR, A. W. DR.

MELCHER, G. K. MR.

MELOY, K. E. MS.

MERRITT, M. M. MR.

MESEROLE JR., M. MR.

MILLER, K. E. MR.

MOHLER, M. K. MR.

MOLZAHN, W. R. MR.

MONTGOMERY, J. A. DR.

MOORE, S. B. MR.

MORA, A. J. HON

MORRAL, D. G. RADML

MORRIS, D. A. MR.

MURDAY, J. S. DR.

MURPHY, P. M. MR.

MURPHY, R. E. MR.

MUTH, C. C. MS.

MYERS IV, A. G. RADM

NATHMAN, J. B. VADM

NAVAS JR., W. A. HON.

NEWSOME, L. D. RADM

NEWTON, L. A. MS.

NICKELL JR, J. R. MR.

ORNER, J. G. MR.

PANEK, R. L. MR.

PAOLETTI, C. R. MR.

PARKS, G. L. LTGEN

PAULING, D. V. MR.

PAYNE, T. MR.

PERSONS, B. J. MR.

PHELPS, F. A. MR.

PHILLIPS, R. L. RDML

PIC, J. E. MR.

PIVIROTTO, R. R. MR.

PLUNKETT, B. J. MR.

POLZIN, J. E. MR.

RANDALL, S. R. MR.

RAPS, S. P. MS.

REEVES, C. R. MR.

RHODES, M. L. MR.

ROBY, C. MS.

RODERICK, B. A. MR.

ROGERS, L. F. MR.

ROSENTHAL, R. J. MR

RYZEWIC, W. H. MR.

SANDEL, E. A. MS.

SANDERS, D. MR.

SAUL, E. L. MR.

SCHAEFER, J. C. MR.

SCHREGARDUS, D. R. MR.

SCHUBERT, D. CAPT

SCHUSTER, J. G. MR.

SHARP, M. A. RADML

SHEPHARD, M. R. MS.

SHOUP, F. E. DR.

SIMON, E. A. MR.

SLOCUM, W. MR.

SMITH, R. F. MR.

SOMOROFF, A. R. DR.

STELLOH-GARNER, C. MS.

SULLIVAN, P. E. RADML

TAMBURRINO, P. M. MR.

TARRANT, N. J. MS.

TESCH, T. G. MR.

THOMAS, J. R. BGEN

THOMPSON, R. C. MR.

THROCKMORTON JR., E. L. MR.

TOWNSEND, D. K. MS.

TRAMMELL, R. K. MR.

TULLAR, E. W. MR.

UHLER, D. G. DR.

WENNERGREN, D. M. MR.

WEST, L. E. MR.

WEYMAN, A. S. MR.

WHITON, H. W. RADM

WHITTEMORE, A. MS.

WILLIAMS, G. P. MR.

WRIGHT JR, J. W. DR.

YOUNG, C. B. RADM

YOUNG, J. J. HON.

ZEMAN, A. R. DR.

FOR FURTHER INFORMATION CONTACT: Ms. Carmen Arrowood, Office of Civilian Human Resources, telephone (202) 764-0635.

Dated: July 16, 2003.
E.F. McDonnell,
Major, U.S. Marine Corps, Federal Register Liaison Officer.

[FR Doc. 03-19105 Filed 7-25-03; 8:45 am]

BILLING CODE 3810-FF-P